DEPARTMENT OF TRANSPORTATION

Federal Aviation Administration

14 CFR Part 39

[Docket No. 99-SW-87-AD; Amendment 39-11625; AD 2000-05-15]

RIN 2120-AA64

Airworthiness Directives; Eurocopter France Model AS355N Helicopters

AGENCY: Federal Aviation Administration, DOT.

ACTION: Final rule; request for comments.

SUMMARY: This amendment adopts a new airworthiness directive (AD) that is applicable to Eurocopter France Model AS355N helicopters. This action requires inspecting the: 4 engine exhaust pipe ejector attachment lugs (lugs) for cracks; starter-generator (S-G) shaft for radial play; S-G attachment flange for cracks; and S-G attachment half-clamps for cracks.

This amendment is prompted by 9 reports of S-G damage; 3 reports of the discovery of cracks in the lugs; and 1 report of an in-flight loss of the exhaust pipe ejector. The actions specified in this AD are intended to prevent separation of an engine exhaust pipe ejector from the helicopter, which could result in a tail rotor strike and subsequent loss of control of the helicopter.

DATES: Effective March 31, 2000.

The incorporation by reference of certain publications listed in the regulations is approved by the Director of the Federal Register as of March 31, 2000.

Comments for inclusion in the Rules Docket must be received on or before May 15, 2000.

ADDRESSES: Submit comments in triplicate to the Federal Aviation Administration (FAA), Office of the Regional Counsel, Southwest Region, Attention: Rules Docket No. 99-SW-87-AD, 2601 Meacham Blvd., Room 663, Fort Worth, Texas 76137.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas 76137; or at the Office of the Federal Register, 800 North Capitol Street, NW., suite 700, Washington, DC.

FOR FURTHER INFORMATION CONTACT: Shep Blackman, Aerospace Engineer, FAA, Rotorcraft Directorate, Rotorcraft Standards Staff, 2601 Meacham Blvd., Fort Worth, Texas 76137, telephone (817) 222-5296, fax (817) 222-5961.

SUPPLEMENTARY INFORMATION: The Direction Generale De L'Aviation Civile (DGAC), which is the airworthiness authority for France, notified the FAA that an unsafe condition may exist on Eurocopter France Model AS355N helicopters. The DGAC advises that starter-generator deterioration may lead to failure of the engine exhaust pipe ejector attachment lugs and subsequent loss of the ejector.

Eurocopter France has issued Eurocopter France Service Telex No. 01.00.45, dated October 27, 1999, which requests that the following items must be inspected within 10 hours time-in-service (TIS) and then at intervals of 100 hours TIS: 4 lugs for cracks; S-G shaft for significant radial play; S-G attachment flange for cracks; and S-G attachment half-clamps for cracks.

The DGAC classified this telex as mandatory and issued AD 1999-469-058(A), dated December 1, 1999, in order to assure the continued airworthiness of these helicopters in France.

This helicopter model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Since an unsafe condition has been identified that is likely to exist or develop on other Eurocopter France Model AS355N helicopters of the same type design registered in the United States, this AD is being issued to prevent separation of an engine exhaust pipe ejector from the helicopter, which could result in a tail rotor strike and subsequent loss of control of the helicopter. This AD requires, within 10 hours TIS and then at intervals not to exceed 100 hours TIS, inspecting the: 4 lugs for any crack; S-G shaft for radial play; S-G attachment flange for any crack; and S-G attachment half-clamps for any crack.

The actions are required to be accomplished in accordance with the telex described previously. The short compliance time involved is required because the previously described critical unsafe condition can adversely affect the structural integrity of the helicopter. Therefore, this AD must be issued immediately.

Since a situation exists that requires the immediate adoption of this regulation, it is found that notice and opportunity for prior public comment hereon are impracticable, and that good cause exists for making this amendment effective in less than 30 days.

The FAA estimates that 13 helicopters will be affected by this AD and that it will take approximately 3 work hours to accomplish the inspections. The work hours required to replace the parts will be: 2 work hours to replace the S-G; 1 work hour to replace the clamp and flange; and 2 work hours to replace the exhaust pipe.

The average labor rate is estimated to be $60 per work hour. Required parts, per helicopter, will cost approximately: $6,346 for each S-G; $12,148 for each exhaust pipe; $500 for each flange; and $175 for each clamp.

Based on these figures, the total cost impact of the AD on U.S. operators is estimated to be $180 per helicopter to accomplish each inspection and $19,469 per helicopter to replace the S-G, the exhaust pipe, the flange, and the clamp.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 99-SW-87-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-05-15 Eurocopter France: Amendment 39-11625. Docket No. 99-SW-87-AD.

Applicability: Model AS355N helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required within 10 hours time-in-service (TIS) and thereafter at intervals not to exceed 100 hours TIS, unless accomplished previously.

To prevent separation of an engine exhaust pipe ejector from the helicopter, which could result in a tail rotor strike and subsequent loss of control of the helicopter, accomplish the following:

(a) In accordance with paragraph BB of Eurocopter France Service Telex No. 00095, dated October 27, 1999 (Telex) that references Service Telex No. 01.00.45, visually inspect the:

(1) 4 engine exhaust pipe ejector attachment lugs (lugs) for any crack;

(2) starter-generator (S-G) shaft for radial play;

(3) S-G attachment flange for any crack; and

(4) S-G attachment half-clamps for any crack.

(b) If a crack is found in either the lugs, the S-G attachment flange, or the S-G attachment half-clamps, repair or replace the cracked part with an airworthy part prior to further flight.

(c) If radial play is discovered in the S-G, replace it with an airworthy S-G prior to further flight.

(d) An alternative method of compliance or adjustment of the compliance time that provides an acceptable level of safety may be used if approved by the Manager, Regulations Group, Rotorcraft Directorate, FAA. Operators shall submit their requests through an FAA Principal Maintenance Inspector, who may concur or comment and then send it to the Manager, Rotorcraft Directorate.

Note 2: Information concerning the existence of approved alternative methods of compliance with this AD, if any, may be obtained from the Regulations Group.

(e) Special flight permits may be issued in accordance with §§ 21.197 and 21.199 of the Federal Aviation Regulations (14 CFR 21.197 and 21.199) to operate the helicopter to a location where the requirements of this AD can be accomplished.

(f) The inspections and replacements, if necessary, shall be done in accordance with Eurocopter France Service Telex No. 00095, dated October 27, 1999. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(g) This amendment becomes effective on March 31, 2000.

Note 3: The subject of this AD is addressed in Direction Generale De L'Aviation Civile (France) AD 1999-469-058(A), dated December 1, 1999.

Issued in Fort Worth, Texas, on March 6, 2000.
Henry A. Armstrong,
Manager, Rotorcraft Directorate, Aircraft Certification Service.

[FR Doc. 00-6035 Filed 3-15-00; 8:45 am]

BILLING CODE 4910-13-U